DEPARTMENT OF HOMELAND SECURITY

Federal Emergency Management Agency

[Docket ID FEMA-2017-0002]

Changes in Flood Hazard Determinations

AGENCY: Federal Emergency Management Agency, DHS.

ACTION: Final Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: Each LOMR was finalized as in the table below.

ADDRESSES: Each LOMR is available for inspection at both the respective Community Map Repository address listed in the table below and online through the FEMA Map Service Center at www.msc.fema.gov.

FOR FURTHER INFORMATION CONTACT: Rick Sacbibit, Chief, Engineering Services Branch, Federal Insurance and Mitigation Administration, FEMA, 400 C Street SW., Washington, DC 20472, (202) 646-7659, or (email) patrick.sacbibit@fema.dhs.gov; or visit the FEMA Map Information eXchange (FMIX) online at www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP and also are used to calculate the appropriate flood insurance premium rates for new buildings, and for the contents in those buildings. The changes in flood hazard determinations are in accordance with 44 CFR 65.4.

Interested lessees and owners of real property are encouraged to review the final flood hazard information available at the address cited below for each community or online through the FEMA Map Service Center at www.msc.fema.gov.

(Catalog of Federal Domestic Assistance No. 97.022, “Flood Insurance.”)

Dated: August 25, 2017.
Roy E. Wright,
Deputy Associate Administrator for Insurance and Mitigation, Department of Homeland Security, Federal Emergency Management Agency.

State and county | Location and case No. | Chief executive officer of community | Community map repository | Date of modification | Community No.
Alabama:
St. Clair (FEMA Docket No.: B-1717). | City of Springville (16-04-8225P). | The Honorable William Isley, Jr., Mayor, City of Springville, 160 Walker Drive, Springville, AL 35146 | City Hall, 6327 U.S. Highway 11, Springville, AL 35146 | Jul. 14, 2017 | 010289
St. Clair (FEMA Docket No.: B-1717). | Unincorporated areas of St. Clair County (16-04-8225P). | The Honorable Paul Manning, Chairman, St. Clair County Board of Commissioners, 165 5th Avenue, Suite 100, Ashville, AL 35953 | St. Clair County Courthouse, 100 6th Avenue, Suite 400, Ashville, AL 35953 | Jul. 14, 2017 | 010290
Shelby (FEMA Docket No.: B-1717). | City of Helena (16-04-8436P). | The Honorable Mark R. Hall, Mayor, City of Helena, 816 Highway 52 East, Helena, AL 35080 | City Hall, 816 Highway 52 East, Helena, AL 35080 | Jul. 24, 2017 | 010294
Arkansas: Benton (FEMA Docket No.: B-1717). | Unincorporated areas of Benton County (17-06-0070P). | The Honorable Barry Moehring, Benton County Judge, 215 East Central Avenue, Bentonville, AR 72712 | Benton County Department of Development, 905 Northwest 8th Street, Bentonville, AR 72712 | Jul. 20, 2017 | 050419
Colorado: Douglas (FEMA Docket No.: B-1717). | Town of Castle Rock (17-08-0328P). | The Honorable Jennifer Green, Mayor, Town of Castle Rock, 100 North Wilcox Street, Castle Rock, CO 80104 | Water Department, 175 Kellogg Court, Castle Rock, CO 80109 | Aug. 4, 2017 | 080050
Connecticut:
Fairfield (FEMA Docket No.: B-1717). | City of Norwalk (17-01-0383P). | The Honorable Harry W. Rilling, Mayor, City of Norwalk, 125 East Avenue, Norwalk, CT 06851 | Planning and Zoning Department, 125 East Avenue, Norwalk, CT 06851 | Jun. 29, 2017 | 090012
New Haven (FEMA Docket No.: B-1717). | City of New Haven (17-01-0377P). | The Honorable Toni Harp, Mayor, City of New Haven, 165 Church Street, New Haven, CT 06510 | Planning Department, 165 Church Street, New Haven, CT 06510 | Jun. 29, 2017 | 090084
Florida:
Collier (FEMA Docket No.: B-1717). | City of Marco Island (17-04-0636P). | The Honorable Larry Honig, Chairman, City of Marco Island Council, 50 Bald Eagle Drive, Marco Island, FL 34145 | City Hall, 50 Bald Eagle Drive, Marco Island, FL 34145 | Jul. 27, 2017 | 120426
Lee (FEMA Docket No.: B-1717). | City of Sanibel (17-04-0681P). | The Honorable Kevin Ruane, Mayor, City of Sanibel, 800 Dunlop Road, Sanibel, FL 33957 | Planning and Code Enforcement Department, 800 Dunlop Road, Sanibel, FL 33957 | Aug. 3, 2017 | 120402
Lee (FEMA Docket No.: B-1717). | City of Sanibel (17-04-1647P). | The Honorable Kevin Ruane, Mayor, City of Sanibel, 800 Dunlop Road, Sanibel, FL 33957 | Planning and Code Enforcement Department, 800 Dunlop Road, Sanibel, FL 33957 | Jul. 31, 2017 | 120402
Orange (FEMA Docket No.: B-1717). | Unincorporated areas of Orange County (16-04-7503P). | The Honorable Teresa Jacobs, Mayor, Orange County, 201 South Rosalind Avenue, 5th Floor, Orlando, FL 32801 | Orange County Stormwater Management Division, 4200 South John Young Parkway, Orlando, FL 32839 | Jul. 21, 2017 | 120179
Osceola (FEMA Docket No.: B-1717). | City of Kissimmee (17-04-1694P). | The Honorable Jose A. Alvarez, Mayor, City of Kissimmee, 101 Church Street, Kissimmee, FL 34741 | Public Works and Engineering Department, 101 Church Street, Kissimmee, FL 34741 | Aug. 4, 2017 | 120190
Osceola (FEMA Docket No.: B-1717). | Unincorporated areas of Osceola County (17-04-1694P). | The Honorable Brandon Arrington, Chairman, Osceola County Board of Commissioners, 1 Courthouse Square, Suite 4700, Kissimmee, FL 34741 | Osceola County Development Review Department, 1 Courthouse Square, Kissimmee, FL 34741 | Aug. 4, 2017 | 120189
Sarasota (FEMA Docket No.: B-1717). | Unincorporated areas of Sarasota County (17-04-0650P). | The Honorable Paul Caragiulo, Chairman, Sarasota County Board of Commissioners, 1660 Ringling Boulevard, Sarasota, FL 34236 | Sarasota County Development Services Department, 1001 Sarasota Center Boulevard, Sarasota, FL 34240 | Jul. 27, 2017 | 125144
Massachusetts: Essex (FEMA Docket No.: B-1717). | Town of Nahant (16-01-2425P). | Mr. Jeff A. Chelgren, Administrator, Town of Nahant, 334 Nahant Road, Nahant, MA 01908 | Town Hall, 334 Nahant Road, Nahant, MA 01908 | Jul. 7, 2017 | 250095
North Carolina:
Jackson (FEMA Docket No.: B-1717). | Town of Dillsboro (16-04-8525P). | The Honorable Mike Fitzgerald, Mayor, Town of Dillsboro, P.O. Box 1088, Dillsboro, NC 28725 | Town Hall, 42 Front Street, Dillsboro, NC 28725 | Aug. 4, 2017 | 370136
Jackson (FEMA Docket No.: B-1717). | Unincorporated areas of Jackson County (16-04-8525P). | The Honorable Brian T. McMahan, Chairman, Jackson County Board of Commissioners, 401 Grindstaff Cove Road, Sylva, NC 28779 | Jackson County Justice and Administration Department, 401 Grindstaff Cove Road, Sylva, NC 28779 | Aug. 4, 2017 | 370282
Transylvania (FEMA Docket No.: B-1735). | Unincorporated areas of Transylvania County (17-04-1024P). | The Honorable Larry Chapman, Chairman, Transylvania County Board of Commissioners, 101 South Broad Street, Brevard, NC 28712 | Transylvania County Planning and Community Development Department, 106 East Morgan Street, Brevard, NC 28712 | Jun. 27, 2017 | 370230
Wake (FEMA Docket No.: B-1717). | City of Raleigh (16-04-4436P). | The Honorable Nancy McFarlane, Mayor, City of Raleigh, P.O. Box 590, Raleigh, NC 27602 | Stormwater Management Division, 1 Exchange Plaza, Suite 304, Raleigh, NC 27601 | Jul. 25, 2017 | 370243
Tennessee:
Williamson (FEMA Docket No.: B-1717). | City of Franklin (16-04-8246P). | The Honorable Ken Moore, Mayor, City of Franklin, 109 3rd Avenue South, Franklin, TN 37064 | City Hall, 109 3rd Avenue South, Franklin, TN 37064 | Jul. 7, 2017 | 470206
Williamson (FEMA Docket No.: B-1717). | City of Franklin (17-04-0761P). | The Honorable Ken Moore, Mayor, City of Franklin, 109 3rd Avenue South, Franklin, TN 37064 | City Hall, 109 3rd Avenue South, Franklin, TN 37064 | Jul. 5, 2017 | 470206
Williamson (FEMA Docket No.: B-1717). | Unincorporated areas of Williamson County (16-04-8246P). | The Honorable Rogers Anderson, Mayor, Williamson County Board of Commissioners, 1320 West Main Street, Suite 125, Franklin, TN 37064 | Williamson County Engineering Department, 1320 West Main Street, Suite 400, Franklin, TN 37064 | Jul. 7, 2017 | 470204
Texas:
Collin (FEMA Docket No.: B-1717). | City of Dallas (17-06-0184P). | The Honorable Michael S. Rawlings, Mayor, City of Dallas, 1500 Marilla Street, Suite 5EN, Dallas, TX 75201 | Engineering Department, 320 East Jefferson Boulevard, Suite 200, Dallas, TX 75203 | Jul. 10, 2017 | 480171
Collin (FEMA Docket No.: B-1717). | Unincorporated areas of Collin County (16-06-4303P). | The Honorable Keith Self, Collin County Judge, 2300 Bloomdale Road, Suite 4192, McKinney, TX 75071 | Collin County Engineering Department, 4690 Community Avenue, Suite 200, McKinney, TX 75091 | Jul. 17, 2017 | 480130
Dallas (FEMA Docket No.: B-1717). | City of Dallas (16-06-3968P). | The Honorable Michael S. Rawlings, Mayor, City of Dallas, 1500 Marilla Street, Suite 5EN, Dallas, TX 75201 | Engineering Department, 320 East Jefferson Boulevard, Suite 200, Dallas, TX 75203 | Jul. 10, 2017 | 480171
Guadalupe (FEMA Docket No.: B-1717). | City of Schertz (16-06-4291P). | The Honorable Michael Carpenter, Mayor, City of Schertz, 1400 Schertz Parkway, Schertz, TX 78154 | Public Works Department, 10 Commercial Place, Schertz, TX 78154 | Jul. 28, 2017 | 480269
Kendall (FEMA Docket, No.: B-1717). | City of Boerne (16-06-2380P). | Mr. Ronald Bowman, Manager, City of Boerne, 402 East Blanco Road, Boerne, TX 78006 | City Hall, 402 East Blanco Road, Boerne, TX 78006 | Aug. 2, 2017 | 480418
Kendall (FEMA Docket, No.: B-1717). | Unincorporated areas of Kendall County (16-06-2380P). | The Honorable Darrel L. Lux, Kendall County Judge, 201 East San Antonio Avenue, Suite 122, Boerne, TX 78006 | Kendall County Planning Department, 201 East San Antonio Avenue, Suite 101, Boerne, TX 78006 | Aug. 2, 2017 | 480417
Tarrant (FEMA Docket No.: B-1717). | City of Haltom City (16-06-3443P). | The Honorable David Averitt, Mayor, City of Haltom City, 5024 Broadway Avenue, Haltom City, TX 76117 | Public Works Department, 4200 Hollis Street, Haltom City, TX 76111 | Aug. 3, 2017 | 480599

[FR Doc. 2017-20192 Filed 9-20-17; 8:45 am]

BILLING CODE 9110-12-P